DEPARTMENT OF ENERGY

Federal Energy Regulatory Commission

Combined Notice of Filings #2

Take notice that the Commission received the following electric rate filings:

Docket Numbers: ER17-2474-001.

Applicants: Palmco Power DE, LLC.

Description: Tariff Amendment: Modify Tariff Language to be effective 11/13/2017.

Filed Date: 11/9/17.

Accession Number: 20171109-5139.

Comments Due: 5 p.m. ET 11/30/17.

Docket Numbers: ER17-2476-001.

Applicants: Palmco Power DC, LLC.

Description: Tariff Amendment: Modify Tariff Language to be effective 11/13/2017.

Filed Date: 11/9/17.

Accession Number: 20171109-5136.

Comments Due: 5 p.m. ET 11/30/17.

Docket Numbers: ER17-2477-001.

Applicants: Palmco Power MD, LLC.

Description: Tariff Amendment: Modify Tariff Language to be effective 11/13/2017.

Filed Date: 11/9/17.

Accession Number: 20171109-5153.

Comments Due: 5 p.m. ET 11/30/17.

Docket Numbers: ER17-2481-001.

Applicants: Palmco Power MA, LLC.

Description: Tariff Amendment: Modify Tariff Language to be effective 11/13/2017.

Filed Date: 11/9/17.

Accession Number: 20171109-5147.

Comments Due: 5 p.m. ET 11/30/17.

Docket Numbers: ER17-2484-001.

Applicants: Palmco Power CT, LLC.

Description: Tariff Amendment: Modify Tariff Language to be effective 11/13/2017.

Filed Date: 11/9/17.

Accession Number: 20171109-5134.

Comments Due: 5 p.m. ET 11/30/17.

Docket Numbers: ER17-2485-001.

Applicants: Palmco Power MI, LLC.

Description: Tariff Amendment: Modify Tariff Language to be effective 11/13/2017.

Filed Date: 11/9/17.

Accession Number: 20171109-5155.

Comments Due: 5 p.m. ET 11/30/17.

Docket Numbers: ER17-2487-001.

Applicants: Palmco Power ME, LLC.

Description: Tariff Amendment: Modify Tariff Language to be effective 11/13/2017.

Filed Date: 11/9/17.

Accession Number: 20171109-5154.

Comments Due: 5 p.m. ET 11/30/17.

Docket Numbers: ER17-2488-001.

Applicants: Palmco Power IL, LLC.

Description: Tariff Amendment: Modify Tariff Language to be effective 11/13/2017.

Filed Date: 11/9/17.

Accession Number: 20171109-5140.

Comments Due: 5 p.m. ET 11/30/17.

Docket Numbers: ER17-2490-001.

Applicants: Palmco Power CA, LLC.

Description: Tariff Amendment: Modify Tariff Language to be effective 11/13/2017.

Filed Date: 11/9/17.

Accession Number: 20171109-5133.

Comments Due: 5 p.m. ET 11/30/17.

Docket Numbers: ER18-18-000.

Applicants: Arizona Public Service Company.

Description: Report Filing: Supplement to Unexecuted NITS and NOA with Navopache to be effective N/A.

Filed Date: 11/8/17.

Accession Number: 20171108-5065.

Comments Due: 5 p.m. ET 11/29/17.

Docket Numbers: ER18-277-000.

Applicants: Midcontinent Independent System Operator, Inc.

Description: Limited Waiver Request of Midcontinent Independent System Operator, Inc.

Filed Date: 11/9/17.

Accession Number: 20171109-5100.

Comments Due: 5 p.m. ET 11/30/17.

Docket Numbers: ER18-278-000.

Applicants: Gila River Power LLC.

Description: Tariff Cancellation: Complete Cancellation of FERC Electric Tariff to be effective 11/9/2017.

Filed Date: 11/9/17.

Accession Number: 20171109-5123.

Comments Due: 5 p.m. ET 11/30/17.

Docket Numbers: ER18-279-000.

Applicants: Niagara Mohawk Power Corporation, New York Independent System Operator, Inc.

Description: § 205(d) Rate Filing: Reimbursement Agreement No. 2386 between NMPC and MAIT to be effective 10/11/2017.

Filed Date: 11/9/17.

Accession Number: 20171109-5144.

Comments Due: 5 p.m. ET 11/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2017.
Nathaniel J. Davis, Sr.,
Deputy Secretary.

[FR Doc. 2017-24796 Filed 11-15-17; 8:45 am]

BILLING CODE 6717-01-P